FEDERAL HOUSING FINANCE AGENCY

Establishment of a New Independent Agency

AGENCY: Federal Housing Finance Agency.

ACTION: Notice of establishment.

SUMMARY: This Notice is to announce the establishment of a new independent agency. Division A of the Housing and Economic Recovery Act of 2008, Public Law 110-289, 122 Stat. 2654 (2008), titled the Federal Housing Finance Regulatory Reform Act of 2008 (Act), created the Federal Housing Finance Agency (FHFA) as an independent agency of the Federal Government. FHFA was established on the date of enactment, July 30, 2008, and the Act provides for the abolishment of the Office of Federal Housing Enterprise Oversight (OFHEO) and the Federal Housing Finance Board (FHFB) one year after the date of enactment. These agencies, together with the Housing and Urban Development Government-Sponsored Enterprise Mission Teams, are combined to establish FHFA. Regulations of FHFA will be found in 12 CFR chapter XII, parts 1200-1299.

FOR FURTHER INFORMATION CONTACT: Alfred M. Pollard, General Counsel (OFHEO), telephone (202) 414-3788 or Christopher Curtis, General Counsel (FHFB), telephone (202) 408-2802 (not toll free numbers), Federal Housing Finance Agency, Fourth Floor, 1700 G Street, NW., Washington, DC 20552. The telephone number for the Telecommunications Device for the Deaf is (800) 877-8339.

SUPPLEMENTARY INFORMATION: FHFA has regulatory authority over the Federal National Mortgage Association (Fannie Mae), the Federal Home Loan Mortgage Corporation (Freddie Mac) and the Federal Home Loan Banks (collectively, the “regulated entities”) and the Bank System's Office of Finance. The establishment of FHFA strengthens the nation's housing finance system. This new regulator has the authorities necessary to enhance oversight of Fannie Mae, Freddie Mac and the Federal Home Loan Banks—vital components of the nation's secondary mortgage markets.

FHFA was established to oversee the prudential operations of each regulated entity and to ensure:

• That each regulated entity operates in a safe and sound manner, including maintenance of adequate capital and internal controls;

• That the operations and activities of each regulated entity foster liquid, efficient, competitive, and resilient national housing finance markets (including activities relating to mortgages on housing for low- and moderate-income families involving a reasonable economic return that may be less than the return earned on other activities);

• That each regulated entity complies with this title and the rules, regulations, guidelines, and orders issued under this title and the authorizing statutes;

• That each regulated entity carries out its statutory mission only through activities that are authorized under and consistent with this title and the authorizing statutes; and

• That the activities of each regulated entity and the manner in which such regulated entity is operated are consistent with the public interest.

The authorities, powers and responsibilities of FHFA are contained in Titles 12 U.S.C. 1421 et seq. and 4501 et seq., as amended by Division A of Public Law 110-289, 122 Stat. 2654 (2008).

Dated: August 30, 2008.
James B. Lockhart III,
Director, Federal Housing Finance Agency.

[FR Doc. E8-20839 Filed 9-8-08; 8:45 am]

BILLING CODE 4220-01-P